DEPARTMENT OF STATE

[Public Notice 7468]

Notice of Closed Meeting (With Open Session) of the Cultural Property Advisory Committee

There will be a meeting of the Cultural Property Advisory Committee on Monday, June 27, 2011, from approximately 9 a.m. to 5 p.m., and on Tuesday, June 28, 2011, from approximately 9 a.m. to 1 p.m., at the U.S. Department of State, Annex 5, 2200 C Street, NW., Washington, DC.

During its meeting on Monday, June 27, the Committee will begin its review of a proposal to extend the Memorandum of Understanding Between the Government of the United States of America and the Government of the Republic of Bolivia Concerning the Imposition of Import Restrictions on Archaeological Material from the Pre-Columbian Cultures and Certain Ethnological Material from the Colonial and Republican Periods of Bolivia [Docket No. DOS-2011-0092]. An open session to receive oral public comment on this proposal to extend will be held from 10 a.m. to 11 a.m.

On Tuesday, June 28, the Committee will conduct interim reviews of the Memorandum of Understanding Between the Government of the United States of America and the Government of the Republic of Guatemala Concerning the Imposition of Import Restrictions on Archaeological Objects and Materials from the Pre-Columbian Cultures of Guatemala, and of the Agreement Between the Government of the United States of America and the Government of the Republic of Mali Concerning the Imposition of Import Restrictions on Archaeological Material from Mali from the Paleolithic Era (Stone Age) to approximately the Mid-Eighteenth Century. Public comment, oral and written, will be invited at a time in the future should these MOUs be proposed for extension.

The Committee's responsibilities are carried out in accordance with provisions of the Convention on Cultural Property Implementation Act (19 U.S.C. §§ 2601 et seq.). The text of the Act and the subject MOUs/Agreement, as well as related information, may be found at http://exchanges.state.gov/heritage/culprop/html.

Persons wishing to attend the open session should notify the Cultural Heritage Center of the Department of State at (202) 632-6301 no later than June 10, 2011, 5 p.m. (EDT) to arrange for admission. Seating is limited. Special accommodation needs should be specified upon notification of attendance.

Portions of the meeting on June 27 and 28, will be closed pursuant to 5 U.S.C. 552b(c)(9)(B) and 19 U.S.C. 2605(h), the latter of which stipulates that

“The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Persons wishing to make an oral presentation at the public session on June 27 must request to be scheduled and must submit a written text of their oral comments no later than June 10, 2011, 5 p.m. (EDT) to allow time for distribution to Committee members prior to the meeting. Oral comments will be limited to allow time for questions from members of the Committee. All oral and written comments must relate specifically to the determinations under Section 303(a)(1) of the Convention on Cultural Property Implementation Act, 19 U.S.C. 2602, pursuant to which the Committee must make findings. This statute can be found at the web site noted above.

ADDRESSES: All written materials, including the written texts of oral statements, may be submitted via postal mail, commercial delivery, hand delivery, or through the eRulemaking Portal. If more than three (3) pages, 20 duplicates of written materials must be sent to the address below by commercial delivery. Those having access to the Internet and wishing to make a comment of three or fewer pages regarding this Public Notice, may do so through the Federal eRulemaking Portal (see below). This procedure facilitates public participation and implements section 206 of the E-Government Act of 2002, Public Law 107-347, 116 Stat. 2915. It also supports Secretary of State Hillary Rodham Clinton's Greening Diplomacy Initiative which aims to reduce the State Department's environmental footprint and reduce costs. Comments by fax or by e-mail will not be accepted. Please submit comments once.

Postal Mail or Commercial Delivery. Cultural Heritage Center (ECA/P/C), SA-5, Fifth Floor, Department of State, Washington, DC 20522-0505.

• Hand Delivery. Cultural Heritage Center (ECA/P/C), Department of State, 2200 C Street, NW., Washington, DC 20037.

• Federal eRulemaking Portal. To submit comments electronically, go to http://www.regulations.gov and search on docket number DOS-2011-0092. Information on using Regulations.gov, including instructions for accessing agency documents, submitting comments, and viewing the dockets, is available on the site under “How To Use This Site.”

Privacy: Comments submitted in electronic form will be posted on the site http://www.regulations.gov. Because the comments will not be edited to remove any identifying or contact information, the Department of State cautions against including any information in an electronic submission that one does not want publicly disclosed (including trade secrets and commercial or financial information that may be considered privileged or confidential pursuant to 19 U.S.C. § 2605(i)(1)). The Department of State requests that any party soliciting or aggregating comments received from other persons for submission to the Department of State inform those persons that the Department of State will not edit their comments to remove any identifying or contact information and, therefore, they should not include any information in their comments that they do not want publicly disclosed.

Dated: May 25, 2011.
Ann Stock,
Assistant Secretary for Educational and Cultural Affairs, Department of State.

[FR Doc. 2011-13693 Filed 6-1-11; 8:45 am]

BILLING CODE 4710-05-P